DEPARTMENT OF THE INTERIOR

Bureau of Land Management

[LLORS00100 63500000 DQ0000 LXSS036H0000; HAG10-0275]

Notice of Public Meeting, Salem District Resource Advisory Committee Meeting

AGENCY: Bureau of Land Management, Interior.

ACTION: Notice of Public Meeting.

SUMMARY: In accordance with the Federal Land Policy and Management Act (FLPMA) and the Federal Advisory Committee Act of 1972 (FACA), the U.S. Department of the Interior, Bureau of Land Management (BLM) Salem District Resource Advisory Committee (RAC) will meet as indicated below.

DATES: June 17, 2010, 8:30 a.m. to 4 p.m., Salem, OR; June 18, 2010, 8:30 a.m. to 4 p.m., Salem, OR.

ADDRESSES: Salem District Office, 1717 Fabry Road SE., Salem, OR 97306

FOR FURTHER INFORMATION CONTACT: Program information, meeting records, and a roster of committee members may be obtained from Richard Hatfield, BLM Salem District Designated Official, 1717 Fabry Road, Salem, OR 97306—(503) 375-5682. The meeting agenda will be posted at: http://www.blm.gov/or/districts/salem/rac.

Should you require reasonable accommodation, please contact the BLM Salem District—(503) 375-5682 as soon as possible.

SUPPLEMENTARY INFORMATION: The Resource Advisory Committee will consider proposed projects for Title II funding under Section 205 of the Secure Rural Schools and Community Self Determination Act of 2000 (Pub. L. 110-343) that focus on maintaining or restoring water quality, land health, forest ecosystems, and infrastructure.

Aaron G. Horton,
District Manager.

[FR Doc. 2010-13293 Filed 6-2-10; 8:45 am]

BILLING CODE 4310-33-P